DEPARTMENT OF COMMERCE

National Oceanic and Atmospheric Administration

RIN 0648-XY42

North Pacific Fishery Management Council; Notice of Public Meeting

AGENCY: National Marine Fisheries Service (NMFS), National Oceanic and Atmospheric Administration (NOAA), Commerce.

ACTION: Meetings of the North Pacific Fishery Management Council's Crab Plan Team (CPT).

SUMMARY: The CPT will meet September 13-16, 2010, at the Alaska Fishery Science Center. The agenda of these meetings are discussed in the SUPPLEMENTARY INFORMATION section of this document.

DATES: The meetings will be held September 13-16, 2010; 9 a.m. 5 p.m.

ADDRESSES: Alaska Fishery Science Center, 7600 Sand Point Way NE, Bldg 4, Seattle, WA.

Council address: North Pacific Fishery Management Council, 605 W. 4th Avenue, Suite 306, Anchorage, AK 99501-2252.

FOR FURTHER INFORMATION CONTACT: Diana Stram, at 907-271-2809.

SUPPLEMENTARY INFORMATION: The CPT will discuss: results of the 2010 survey; snow crab spatial model and management strategy evaluation projects; discuss progress of handling mortality studies; review the final stock assessment and fishery evaluation report; review Bristol Bay red king crab CIE report, review and recommend approaches for Tanner crab model, review and recommend approaches for Pribilof Islands blue king crab and red king crab models, receive an update on the Aleutian Islands golden king crab model; review the ACL analysis and recommend a preferred approach; review the snow crab rebuilding analysis and recommend a preferred approach; review Pribilof Islands blue king crab rebuilding plan; review Ecosystem Considerations chapter; and receive presentations on the Economic SAFE and aspects of the crab rationalization program.

The Agenda is subject to change, and the latest version will be posted at http://www.alaskafisheries.noaa.gov/npfmc/

Special Accommodations

These meetings are physically accessible to people with disabilities. Requests for sign language interpretation or other auxiliary aids should be directed to Gail Bendixen at 907-271-2809 at least 7 working days prior to the meeting date.

Dated: August 23, 2010.
William D. Chappell,
Acting Director, Office of Sustainable Fisheries, National Marine Fisheries Service.

[FR Doc. 2010-21236 Filed 8-25-10; 8:45 am]

BILLING CODE 3510-22-S